DEPARTMENT OF HEALTH AND HUMAN SERVICES

Centers for Disease Control and Prevention

[60Day-07-0406]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Joan Karr, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

State and Local Area Integrated Telephone Survey (SLAITS), (OMB No. 0920-0406)—Revision—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the extent and nature of illness and disability of the population of the United States. The State and Local Area Integrated Telephone Survey (SLAITS) mechanism has been conducted since 1997. This is a request to continue for three years the integrated and coordinated survey system designed to collect needed health and well-being data at the national, state, and local levels (in accordance with the 1995 initiative to increase the integration of surveys within DHHS).

Using the large sampling frame from the ongoing National Immunization Survey (NIS) and Computer Assisted Telephone Interviewing (CATI), SLAITS has quickly collected and produced household and person-level data to monitor many health-related areas. Questionnaire content is drawn from existing surveys within DHHS as well as other Federal agencies, or developed specifically for an instrument according to the needs of the project sponsor. Examples of topical areas include child and family health and well-being, early childhood health, children with special health care needs (CSHCN), influenza vaccination of children, asthma prevalence and treatment, access to care, program participation, the health and well-being of adopted children, post-adoption support use, knowledge of Medicaid and the State Children's Health Insurance Program (SCHIP), and changes in health care coverage at the national and state levels. The first module covered in this three-year clearance is the 2008 National Survey of Children with Special Health Care Needs (NS-CSHCN). It will provide data to be used for program planning and evaluation at the state and national levels.

Since its inception the SLAITS mechanism has been used by government, university, and private researchers; policymakers; and advocates to evaluate content and programmatic health issues. For example, the CSHCN and Children's Health modules have been used by Federal and state Maternal and Child Health Bureau Directors to evaluate programs and service needs. Several SLAITS modules have provided data for numerous editions of two Congressionally-mandated reports on healthcare disparities and quality. The module on Medicaid and SCHIP was prominently featured in a report to Congress on insuring children. The SLAITS asthma module was featured in two resource guides published by another Federal agency to improve the quality of asthma care at the state-level.

There is no cost to respondents other than their time to participate.

Estimate of Annualized Burden Hours
Respondents | Number of respondents | Number of responses per respondent | Average burden per response (in hours) | Total burden hours
Household screening | 622,000 | 1 | 1/60 | 10,367
Household interview | 102,000 | 11 | 25/60 | 42,500
Pilot work, pre-testing, and planning activities | 6,100 | 1 | 35/60 | 3,558
Total |  |  |  | 56,425

Dated: March 5, 2007.
Joan F. Karr,
Acting Reports Clearance Officer, Centers for Disease Control and Prevention.

[FR Doc. E7-4635 Filed 3-13-07; 8:45 am]

BILLING CODE 4163-18-P